BROADCASTING BOARD OF GOVERNORS

Government in the Sunshine Act Meeting Notice

DATE AND TIME: Wednesday, May 15, 2013, 4:00 p.m.-4:30 p.m. EDT.

PLACE: Cohen Building, Room 3321, 330 Independence Ave. SW., Washington, DC 20237.

SUBJECT: Notice of meeting of the Broadcasting Board of Governors.

SUMMARY: The Broadcasting Board of Governors (BBG) will be meeting at the time and location listed above. The meeting will be a continuation of the April 11, 2013 meeting, which was adjourned due to lack of a quorum. The BBG will receive and consider a report from the Governance Committee regarding the compliance progress with the recommendations in the Office of Inspector General's inspection report of the BBG, as well as a BBG Board staffing plan. The BBG will receive and consider a progress report from the Strategy and Budget Committee, including the 2013 language service review process and the BBG strategic plan update.

A complete audio recording and a verbatim transcript of the meeting will promptly be made available for public observation on the BBG's Web site at www.bbg.gov. Information regarding this meeting, including any updates or adjustments to its starting time, can also be found on the Agency's Web site.

CONTACT PERSON FOR MORE INFORMATION: Persons interested in obtaining more information should contact Paul Kollmer-Dorsey at (202) 203-4545.

Paul Kollmer-Dorsey,
Deputy General Counsel.

[FR Doc. 2013-11338 Filed 5-9-13; 11:15 am]

BILLING CODE 8160-01-P